DEPARTMENT OF TRANSPORTATION

Federal Aviation Administration

Public Notice for the Sale of Aeronautical Property at Manchester Airport, Manchester, NH

AGENCY: Federal Aviation Administration (FAA), DOT.

ACTION: Request for Public Comments.

SUMMARY: The FAA is requesting public comment on the City of Manchester, New Hampshire's request to sell a portion (3.98 acres) of Airport property. The property is located in the area of the Northeast Ramp off Perimeter Road and is identified as Tax Map 721, Lot 17E. The land is currently unimproved. The parcel will be swapped with another parcel of equal value needed for Airport development. Upon sale, the land will be utilized for hangar development. A portion of the property (2.58 acres) was acquired under the Surplus Property Act via deed dated August 16, 1968.

The disposition of proceeds from the disposal of airport property will be in accordance with FAA's Policy and Procedures Concerning the Use of Airport Revenue, published in the Federal Register on February 16, 1999.

DATES: Comments must be received on or before December 15, 2005.

ADDRESSES: Documents are available for review by appointment by contacting Mr. David Bush, Assistant Airport Director at Manchester Airport, One Airport Road, Manchester, New Hampshire 03103, Telephone 603-624-6539 or by contacting Donna R. Witte, Federal Aviation Administration, 16 New England Executive Park, Burlington, Massachusetts, Telephone 781-238-7624.

FOR FURTHER INFORMATION CONTACT: Donna R. Witte at the Federal Aviation Administration, 12 New England Executive Park, Burlington, Massachusetts 01803, Telephone 781-238-7624.

SUPPLEMENTARY INFORMATION: Section 125 of The Wendell H. Ford Aviation Investment and Reform Act for the 21st Century (AIR 21) requires the FAA to provide an opportunity for public notice and comment to the “waiver” or “modification” of a sponsor's Federal obligation to use certain airport property for aeronautical purposes.

Issued in Burlington, Massachusetts on October 31, 2005.
LaVerne F. Reid,
Manager, Airports Division, New England Region.

[FR Doc. 05-22577 Filed 11-14-05; 8:45 am]

BILLING CODE 4910-13-M